DEPARTMENT OF JUSTICE

[OMB Number 1121-0364]

Agency Information Collection Activities; Proposed eCollection eComments Requested; Revision of a Currently Approved Collection: Annual Survey of Jails in Indian Country

AGENCY: Bureau of Justice Statistics, Department of Justice.

ACTION: 60-Day notice.

SUMMARY: The Bureau of Justice Statistics (BJS), Department of Justice (DOJ) will be submitting the following information collection request to the Office of Management and Budget (OMB) for review and approval in accordance with the Paperwork Reduction Act of 1995.

DATES: Comments are encouraged and will be accepted for 60 days until January 20, 2026.

FOR FURTHER INFORMATION CONTACT: If you have additional comments especially on the estimated public burden or associated response time, suggestions, or need a copy of the proposed information collection instrument with instructions or additional information, please contact Carol Ann Sharo, Bureau of Justice Statistics, 999 N. Capitol ST NE, 8th Floor, Washington, DC 20531, bjspra.comments@ojp.usdoj.gov; telephone: 202-307-0765].

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Through the Survey of Jails in Indian Country (SJIC), the Bureau of Justice Statistics (BJS) collects annual aggregated administrative data from all Indian country jails, which consists of approximately 77 confinement facilities, detention centers, and other correctional facilities operated by tribal authorities or the Bureau of Indian Affairs (BIA). Facility administrators provide data on SJIC form CJ-5B that meet the definitions provided by BJS for items including: the number of inmates confined by demographic information, number of new admissions and final discharges, the average daily population (ADP) and peak population, the number of attempted suicides and deaths, the rated capacity to hold inmates, and the number of staff employed in Indian country jails. The Bureau of Justice Statistics uses this information in published reports and for the U.S. Congress, Executive Office of the President, practitioners, researchers, students, the media, and others interested in criminal justice statistics.

Overview of This Information Collection

1. Type of Information Collection: Reinstatement, with changes, of a previously approved collection for which approval has expired.

2. The Title of the Form/Collection: Annual Survey of Jails in Indian Country (SJIC).

3. The agency form number, if any, and the applicable component of the Department sponsoring the collection: The form number is CJ-5B: Annual Survey of Jails in Indian Country (SJIC). The applicable component within the Department of Justice is the Bureau of Justice Statistics (BJS), in the Office of Justice Programs. The Bureau of Justice Statistics (BJS) requests clearance to conduct the Annual Survey of Jails in Indian Country (SJIC) for a three-year period.

4. Affected public who will be asked or required to respond, as well as the obligation to respond: Affected Public Respondents will include tribal and federal governments which will include approximately 77 confinement facilities, detention centers, and other correctional facilities operated by tribal authorities or the Bureau of Indian Affairs. The obligation to respond is voluntary.

5. An estimate of the total number of respondents and the amount of time estimated for an average respondent to respond: BJS estimates approximately 77 Indian country correctional facilities will complete SJIC form CJ-5B. The estimated time for each respondent is 55 minutes total including contact verification, survey completion, and data quality follow-up. The burden estimate is based on the paradata BJS collected from the 2024 administration of the SJIC.

6. An estimate of the total annual burden (in hours) associated with the collection: The burden hours will be approximately 70.5 hours total for all facilities per year and 211.5 hours total for all facilities over the course of three years.

7. An estimate of the total annual cost burden associated with the collection, if applicable: $205,537.

Total Burden Hours
Activity | Number of respondents | Frequency (annually) | Total annual responses | Time per response (min) | Total annual burden (hours)
Survey of tribal and federal governments | 77 | 1 | 77 | 55 | 70.5
Unduplicated Totals | 77 |  | 77 |  | 70.5

If additional information is required contact: Darwin Arceo, Department Clearance Officer, United States Department of Justice, Justice Management Division, Enterprise Portfolio Management, Two Constitution Square, 145 N Street NE, 4W-218, Washington, DC 20530.

Dated: November 19, 2025.
Darwin Arceo,
Department Clearance Officer for PRA, U.S. Department of Justice.

[FR Doc. 2025-20589 Filed 11-20-25; 8:45 am]

BILLING CODE 4410-18-P